DEPARTMENT OF LABOR

Employment and Training Administration

Public Meeting of the Advisory Committee on Apprenticeship (ACA)

AGENCY: Employment and Training Administration, Labor.

ACTION: Notice of open meeting.

SUMMARY: Pursuant to section 10 of the Federal Advisory Committee Act (Pub. L. 92-463; 5 U.S.C. APP. 1), notice is hereby given of a meeting of the Advisory Committee on Apprenticeship (ACA).

Time and Date: The meeting will begin at 8:30 a.m. on Tuesday, September 16, and continue until approximately 5 p.m. The meeting will reconvene at 8:30 a.m. on Wednesday, September 17, and continue until 4 p.m.

Place: Donald E. Stephens Convention Center, 5555 N. River Road, Rosemont, Illinois; Telephone: (847) 692-2220.

The agenda is subject to change due to time constraints and priority items which may come before the Committee between the time of this publication and the scheduled date of the ACA meeting.

FOR FURTHER INFORMATION CONTACT: Mr. Anthony Swoope, Administrator, Office of Apprenticeship Training, Employer and Labor Services, Employment and Training Administration, U.S. Department of Labor, Room N-4671, 200 Constitution Avenue, NW., Washington, DC 20210. Telephone: (202) 693-2796, (this is not a toll-free number).

Matters To Be Considered: The agenda will focus on reports from the Committee's subcommittees on the following topics:

• Career Lattice/Credentialing

• Education and Outreach

• Training/Staff Development

• New and Emerging Industries

• Legislative

Status: Members of the public are invited to attend the proceedings. Individuals with special needs should contact Ms. Marion Winters at (202) 693-3786 no later than September 12, 2003, if special accommodations are needed.

Any member of the public who wishes to file written data or comments pertaining to the agenda may do so by sending them to Mr. Anthony Swoope, Administrator, Office of Apprenticeship Training, Employer and Labor Services, Employment and Training Administration, U.S. Department of Labor, Room N-4671, 200 Constitution Avenue NW., Washington, DC 20210. Such submissions should be sent by September 12, 2003, to be included in the record for the meeting.

Any member of the public who wishes to speak at the meeting should indicate the nature of the intended presentation and the amount of time needed by furnishing a written statement to the Designated Federal Official, Mr. Anthony Swoope, by September 12, 2003. The Chairperson will announce at the beginning of the meeting the extent to which time will permit the granting of such requests.

Signed at Washington, DC, this 15 day of August, 2003.
Emily Stover DeRocco,
Assistant Secretary for Employment and Training Administration.

[FR Doc. 03-21404 Filed 8-20-03; 8:45 am]

BILLING CODE 4510-30-P